DEPARTMENT OF THE INTERIOR

Fish and Wildlife Service

[FWS-R9-R-2009-N279; [93261-1263-000-5C]

Draft Friends Organizations Policy

AGENCY: Fish and Wildlife Service, Department of the Interior.

ACTION: Notice; request for comment.

SUMMARY: We, the U.S. Fish and Wildlife Service (Service), propose to establish a policy to guide Service employees to increase efficiency and effectiveness in achieving the Service's mission through partnerships with Friends organizations (volunteer/advocate). Today, Friends organizations play a vital role in helping to fulfill the Service's mission of “working with others, to conserve, protect and enhance fish, wildlife, and plants and their habitats for the continuing benefit of the American people.”

This draft policy provides guidance for Service employees who work with Friends organizations to increase community involvement in our programs. Specifically, it includes guidance regarding financial and administrative practices, Friends Partnership Agreements, and revenue generating operations. We propose to incorporate this draft policy as Part 633, chapters 1-4 of the Fish and Wildlife Service Manual.

DATES: To ensure consideration, please send your written comments by December 2, 2010.

ADDRESSES: You may submit comments on this draft policy by any of the following methods:

U.S. Mail or Hand Delivery: Kevin Kilcullen, Visitor Services, National Wildlife Refuge System, U.S. Fish and Wildlife Service, 4401 North Fairfax Drive, Room 635, Arlington, VA 22203;

Fax: 703-358-2517; or

E-mail: refugesystempolicycomments@fws.gov.

FOR FURTHER INFORMATION CONTACT: Kevin Kilcullen, at address or fax above, or telephone: 703-358-2382.

SUPPLEMENTARY INFORMATION: The draft guidance document which is the subject of this notice is available at: http://www.fws.gov/refuges/friends.

Background

The National Wildlife Refuge System Volunteer and Community Partnership Enhancement Act of 1998 (16 U.S.C. 742f) amended the Fish and Wildlife Act of 1956 to promote volunteer programs and community partnerships for the benefit of national wildlife refuges. The Act states that we will “encourage the use of volunteers in the management of refuges and facilitate partnerships between the Refuge System and non-Federal entities to promote public awareness of the resources of the Refuge System and public participation in the conservation of those resources.” The National Fish Hatchery System Volunteer Act of 2006 (16 U.S.C. 760aa) provides for the expansion of volunteer projects and community partnerships of the National Fish Hatchery System. The Act states that we will “enhance an existing volunteer program of the United States Fish and Wildlife Service and promote community partnerships for the benefit of national fish hatcheries and fisheries program offices.” Both Acts direct us to work with volunteers and partners to promote public awareness and participation in our conservation programs. This draft policy for Friends organizations was based on these statutory requirements.

The National Friends Program was established in 1996 to encourage and organize community involvement in Service activities. The program works to expand the number and effectiveness of community-based Friends organizations which assist us in delivering our mission. During the last decade, the Friends program has grown substantially in size and complexity. There are more than 230 Friends organizations, with an estimated total of 40-60,000 members. These organizations significantly strengthen the work of refuges, waterfowl production areas, and fish hatcheries and program offices across the country.

Draft Policy

We recognize that Friends provide many vital services to our sites and programs. This draft policy provides guidance on roles and responsibilities for both the Service and Friends organizations. The purpose of this draft policy is to provide Service employees with guidance when working with Friends organizations.

Chapter 1 of this draft policy identifies the authorities for working with Friends organizations; describes the relationship between the Service and Friends organizations; and describes the responsibilities of Service employees and Friends organizations.

Chapter 2 describes the information we need when we consider the financial and administrative activities under Friends agreements, including the practices and activities that the Service may allow on Government property.

Chapter 3 describes the major components of, and process for developing and modifying, the legal Friends Partnership Agreement between Friends organizations and the Service.

Chapter 4 describes how we work with Friends organizations to manage revenue-generating operations on Service property.

Request for Public Comments

We seek public comments on the draft Friends policy, and will consider comments and any additional information we receive during the comment period (see DATES). You may submit comments to any of the places cited in ADDRESSES. Please submit Internet comments as an ASCII file, avoiding the use of special characters and any form of encryption.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: October 4, 2010.
Daniel M. Ashe,
Deputy Director, Fish and Wildlife Service.

[FR Doc. 2010-26080 Filed 10-15-10; 8:45 am]

BILLING CODE 4310-55-P